DEPARTMENT OF TRANSPORTATION

Maritime Administration

[Docket Number USCG-2013-0363]

Deepwater Port License Application: Liberty Natural Gas LLC, Port Ambrose Deepwater Port

AGENCY: Maritime Administration, Department of Transportation.

ACTION: Notice; extension of public comment period.

SUMMARY: On December 16, 2014, the Maritime Administration (MARAD) published in the Federal Register (79 FR 74808) a Notice of Availability of the Draft Environmental Impact Statement (DEIS); Notice of Public Meeting; and Request for Comments for the Liberty Natural Gas LLC, Port Ambrose Liquefied Natural Gas Deepwater Port License. This notice extends the closing date for receipt of public comments on the Port Ambrose DEIS to March 16, 2015.

DATES: Comments submitted in response to the request for comments must reach the Docket Management Facility as detailed below, by close of business Tuesday, March 16, 2015.

FOR FURTHER INFORMATION CONTACT: Mr. Roddy Bachman, U.S. Coast Guard, telephone: 202-372-1451, email: Roddy.C.Bachman@uscg.mil, or Ms. Yvette M. Fields, U.S. Maritime Administration, telephone: 202-366-0926, email: Yvette.Fields@dot.gov. For questions regarding the Docket, call Ms. Barbara Hairston, Program Manager, Docket Operations, telephone 202-366-9826.

SUPPLEMENTARY INFORMATION: This notice extends the comment period established in the Notice of Availability of the Draft Environmental Impact Statement (DEIS) for the Liberty Natural Gas LLC, Port Ambrose Liquefied Natural Gas Deepwater Port License, published in the Federal Register on December 16, 2014 (79 FR 74808), from February 17, 2015, to March 16, 2015. This 30-day extension of the public comment period is in response to numerous requests submitted by State and local officials as well as citizens, in the affected areas, for additional time to review and comment on the Liberty Natural Gas Port Ambrose Draft Environmental Impact Statement.

Privacy Act

The electronic form of all comments received into the Federal Docket Management System can be searched by the name of the individual submitting the comment (or signing the comment, if submitted on behalf of an association, business, labor union, etc.). The DOT Privacy Act Statement can be viewed in the Federal Register published on April 11, 2000 (Volume 65, Number 70, pages 19477-78) or you may visit http://www.regulations.gov.

Authority: 49 CFR 1.93

Dated: January 29, 2015.
By Order of the Maritime Administrator.
Thomas M. Hudson,
Assistant Secretary, Maritime Administration.

[FR Doc. 2015-02085 Filed 2-2-15; 8:45 am]

BILLING CODE 4910-81-P